DEPARTMENT OF JUSTICE

Office of Justice Programs

Agency Information Collection Activities: Proposed Collection; Comments Requested

ACTION: 60-day emergency notice of information collection under review: Surveys for the Evaluation of the Child Development-Community Policing (CD-CP) Project.

The Department of Justice, Office of Justice Programs, has submitted the following information collection request to the Office of Management and Budget (OMB) for review and clearance in accordance with emergency review procedures of the Paperwork Reduction Act of 1995. Emergency OMB approval has been requested by September 28, 2004. The proposed information collection is published to obtain comments from the public and affected agencies. If granted, the emergency approval is only valid for 180 days. Comments should be directed to OMB, Office of Information and Regulation Affairs, Attention: Department of Justice Desk Officer, Washington, DC 20503. Comments are encouraged and will be accepted for 60 days until November 19, 2004.

During the first 60 days of this same review period, a regular review of this information collection is also being undertaken. All comments and suggestions, or questions regarding additional information, to include obtaining a copy of the proposed information collection instrument with instructions, should be directed to Katherine Darke, (202) 616-7373, Office of Juvenile Justice and Delinquency Prevention, Office of Justice Programs, U.S. Department of Justice, 810 Seventh Street NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: New collection.

(2) Title of the Form Collection: Surveys for the Evaluation of the Child Development-Community Policing (CD-CP) Project.

(3) Agency form number, if any, and the applicable component of the Department of Justice sponsoring the collection: Form Numbers: S1 (Police Officer Survey), S2 (Parent/Caregivers Survey), S3 (Child Survey). Office of Juvenile Justice and Delinquency Prevention, Office of Justice Programs, U.S. Department of Justice.

(4) Affected public who will be asked or required to respond, as well as a brief abstract: Primary: Individuals or households. Other: State, Local, or Tribal Government. This project consists of three surveys. One survey will be administered to police officers, the second survey will be administered to parents/caregivers, and the third survey will be administered to children who participated in the CD-CP program.

(5) An estimate of the total number of respondents and the amount of time estimated for an average respondent to respond: The response burden is estimated at 15 minutes per response for the Police Officer Survey, and 1 hour each for the Parents/Caregiver Survey and Child Survey. The police officers will be administered the survey one time. The parent/caregiver and child surveys will be administered two times; once when they are identified and enter into the program and then approximately 3-4 months after the initial survey.

(6) An estimate of the total public burden (in hours) associated with the collection: There are 913 estimated public burden hours associated with the CD-CP Information collection.

If additional information is required contact: Brenda E. Dyer, Department Clearance Officer, Policy and Planning Staff, Justice Management Division, Department of Justice, Patrick Henry Building, Suite 1600, 601 D Street NW., Washington, DC 20530.

Dated: September 14, 2004.
Brenda E. Dyer,
Department Clearance Officer, Department of Justice.

[FR Doc. 04-21029 Filed 9-17-04; 8:45 am]

BILLING CODE 4410-18-P